DEPARTMENT OF TRANSPORTATION

Federal Transit Administration

[FTA Docket No. FTA 2019-0015]

Agency Information Collection Activity Under OMB Review

AGENCY: Federal Transit Administration, DOT.

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before August 19, 2019.

ADDRESSES: All written comments must refer to the docket number that appears at the top of this document and be submitted to the Office of Information and Regulatory Affairs, Office of Management and Budget, 725-17th Street NW, Washington, DC 20503, Attention: FTA Desk Officer. Alternatively, comments may be sent via email to the Office of Information and Regulatory Affairs (OIRA), Office of Management and Budget, at the following address: oira_submissions@omb.eop.gov.

FOR FURTHER INFORMATION CONTACT: Tia Swain, Office of Administration, Management Planning Division, 1200 New Jersey Avenue SE, Mail Stop TAD-10, Washington, DC 20590, (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On May 14, 2019, FTA published a 60-day notice (84 FR 21404) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Rail Fixed Guideway Systems; State Safety Oversight.

OMB Control Number: 2132-0558.

Type of Request: Renewal of a previously approved information collection.

Abstract: FTA administers a national program for public transportation safety under 49 U.S.C. Section 5329. One element of this program, at 49 U.S.C. 5329(e), requires States to oversee the safety of the rail transit agencies (RTAs) in their jurisdictions, including heavy and light rail systems, streetcars, inclined planes, cable cars, monorail/automated guideways and hybrid rail. Through this program, State Safety Oversight Agencies (SSOAs) ensure that RTAs identify and address safety risks, follow their safety rules and procedures, and take corrective action to address safety deficiencies. This program, which only applies to RTAs, enhances and replaces the State Safety Oversight (SSO) program previously authorized at 49 U.S.C. 5330.

The previously authorized program required SSOAs to perform oversight without Federal grant funding available. As a result, the approved information collection included burden hours associated with activities administered by SSO agencies to collect information from RTAs and activities performed by RTAs to provide information to SSOAs. FTA decided to include these burden hours to address concerns raised by SSOAs and RTAs regarding unfunded Federal requirements.

With the expiration of the previously authorized program, and the new Federal grant program for States, authorized at 49 U.S.C. 5329(e)(6), FTA proposes to amend the information collection activities to focus only on the activities of SSOAs and RTAs to report information to FTA. Activities included in the previous information collection request that are not specifically related to FTA information collection are removed from this information collection request and are addressed in the Regulatory Impact Assessment developed for the final rule implementing 49 U.S.C. 5329(e). This proposed change aligns with the Paperwork Reduction Act (PRA) of 1995, United States Office of Personnel Management, Paperwork Reduction Act (PRA) Guide, Version 2.0, 2011.

The revised information collection request includes the annual report FTA requires from SSOAs, the burden of which has been reduced substantially through the development of a web-based system that replaces the existing spreadsheet-based process and provides direct interface with the National Transit Database. It also includes the FTA's grant management reporting requirement and the triennial audit program, which requires information from both SSOAs and RTAs. Further, the information collection reflects requirements for SSOAs and RTAs to respond to FTA directives and advisories, and SSOAs participation in monthly teleconference calls with FTA. Finally, the information collection request includes RTA event notifications to FTA.

With these changes, the total burden hours have decreased from 586,443 hours for the previous information collection request to 16,365 representing an overall decrease of 570,078 hours.

Estimated Annual Number of Respondents: 96 respondents.

Estimated Total Annual Burden Hours: 16,365 hours.

Frequency: Annually.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

Nadine Pembleton,
Director Office of Management Planning.

[FR Doc. 2019-15364 Filed 7-18-19; 8:45 am]

BILLING CODE P